DEPARTMENT OF THE INTERIOR

Fish and Wildlife Service

[FWS-R2-R-2012-N019: FXRS12610200000S3-123-FF02R06000]

Buffalo Lake National Wildlife Refuge, Randall County, TX; Comprehensive Conservation Plan and Environmental Assessment

AGENCY: Fish and Wildlife Service, Interior.

ACTION: Notice of availability; request for comments.

SUMMARY: We, the U.S. Fish and Wildlife Service (Service), announce the availability of a draft comprehensive conservation plan (CCP) and an environmental assessment (EA) for the Buffalo Lake National Wildlife Refuge (Refuge, NWR), located approximately 30 miles southwest of Amarillo, Texas, for public review and comment. The Draft CCP/EA describes our proposal for managing the refuge for the next 15 years.

DATES: To ensure consideration, please send your written comments by November 23, 2012. We will announce upcoming public meetings in local news media.

ADDRESSES: You may submit comments or requests for copies or more information by any of the following methods. You may request hard copies or a CD-ROM of the documents. Please contact Lynn Nymeyer, Refuge Manager, or Joseph Lujan, Natural Resource Planner.

Email: Joseph_Lujan@fws.gov. Include “Buffalo Lake NWR draft CCP and EA” in the subject line of the message.

Fax: Attn: Joseph Lujan, 505-248-6803.

U.S. Mail: Joseph Lujan, Natural Resource Planner, U.S. Fish and Wildlife Service, NWRS Division of Planning, P.O. Box 1306, Albuquerque, NM 87103.

In-Person Drop-off, Viewing, or Pickup: In-Person Drop-off: You may drop off comments during regular business hours (8 a.m. to 4:30 p.m.) at 500 Gold Street SW., 4th Floor Room 4305. Albuquerque, NM 87102.

FOR FURTHER INFORMATION CONTACT: Lynn Nymeyer, Refuge Manager, Buffalo Lake NWR, CCP—Project, P. O. Box 179, Umbarger, TX 79091; phone: 806-499-3382; fax: 806-499-3254.

SUPPLEMENTARY INFORMATION:

Introduction

With this notice, we continue the CCP process for the Buffalo Lake NWR. We started this process through a notice in the Federal Register (63 FR 33693; June 19, 1998).

The Buffalo Lake NWR, which consists of over 7,677 acres, is located approximately 30 miles southwest of Amarillo, Texas. The primary purpose of the refuge is to protect wintering waterfowl and short-grass prairie habitat. The refuge was officially established on November 17, 1959, and continues to provide critical habitat for migratory waterfowl and grassland bird species.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for wildlife observation and photography, and environmental education and interpretation. We will review and update the CCP at least every 15 years in accordance with the Refuge Administration Act.

Public Outreach

Formal scoping began with publication of a notice of intent to prepare a comprehensive conservation plan and environmental assessment (EA) in the Federal Register on June 19, 1998 (63 FR 33693). Texas Parks and Wildlife Department (TPWD) was formally invited to participate in the development of the CCP. We received input from TPWD on September 16, 2004, and have continued to involve them throughout the planning process. Information sheets were sent to the public, and news releases were sent to a variety of media outlets. A public open house meeting was held December 15, 2009, at the refuge. Additional written comments were received prior to these open house meetings. A variety of stakeholders contributed feedback at the open house meetings and via written comments; we used the feedback in development of the CCP.

CCP Alternatives We Are Considering

During the public scoping process with which we started work on this draft CCP, we, other governmental partners, Tribes, and the public, raised multiple issues. Our draft CCP addresses them. A full description of each alternative is in the EA. To address these issues, we developed and evaluated the following alternatives, summarized below.

Alternatives | A—No-action alternative (current practices) | B—Improved habitat management and public use alternative | C—Optimal habitat management and public use (proposed action) alternative
Habitat Management
Climate Change | No current management direction | Establish a baseline dataset for refuge resources. From this dataset, a decision-based research and monitoring program will be developed to track any potential impacts climate change may have on the refuge | Same as Alternative B.
Habitat Fragmentation | Limit the amounts and types of all new infrastructures such as roads and trails on the refuge | Same as Alternative A, plus the development of a Land Protection Plan of an additional 20,000 acres would guide land acquisition for the refuge and further conservation efforts in the area and reduce human encroachment on the refuge | Same as Alternative B.
Wind Energy Research | Conduct a diurnal avian activity survey and acoustic monitoring in order to track any changes in habitat and wildlife | Same as Alternative A, plus actively track wind energy development projects in and around Randal County to assist the refuge in anticipating potential changes in habitat and wildlife | Same as Alternative B.
Prairie Management and Restoration | Use grazing and prescribed fire to promote and maintain prairie habitat | Same as Alternative A, plus supplement current management with reseeding parts of the refuge with native short grasses | Cease using grassland leasing for livestock grazing and permit native fauna species, whose populations would be permitted to increase under this alternative, to graze freely without competition on the refuge. The 7-year prescribed fire program as described in Alternative A would continue.
Invasive Flora Species | Remove invasive flora through chemical means | Same as Alternative A, plus the refuge would utilize additional chemical treatment on invasive flora species through the use of aircraft application, followed by the mechanical removal of aboveground systems | Same as Alternative B.
Moist Soil Management | Maintain 40-acre Moist Soil Unit | Same as Alternative A, plus the addition of three 40-acre moist soil units and the related pumping infrastructure. The water source, like the current moist soil units, will be a well from the Santa Rosa Aquifer with filters to insure no Ogallala water is used | Developed sufficient moist soil units to maintain the level available to wildlife prior to the Ogallala Aquifer receding due to human activity and use.
Lakebed Management | Cooperatively farm 581 acres of the dry lakebed | Reduce all farming activities to approximately half of current management; this would limit farming activities to no more than 300 acres. Additionally, previously farmed lands would be converted back to natural vegetation | Remove all farming activity from the refuge and convert farming lands to native vegetation.
Water Quality | Continue to utilize the current water retention structure at Umbarger Dam | Same as Alternative A, plus the installation of bio-filters and necessary groundwater pump infrastructure in order to remove coli forms from surface and ground water flowing from adjacent and nearby cattle operations. This infrastructure would be located on the Refuge | Same as Alternative A.
Wildlife Management
Native Fauna | Maintain current levels of prairie dogs, mule deer and white tailed deer | Same as Alternative A | Same as Alternative A.
Invasive Fauna | Manage invasive fauna throughout the refuge | Same as Alternative A | Same as Alternative A.
Visitor Services Issues
Hunting | There is currently no hunting permitted on the refuge and a hunt plan has not been developed | Introduce hunting to the refuge to assist in controlling invasive fauna species as well as control the populations of native fauna species | Same as Alternative B.
Fishing | Currently, no fishing in the refuge | Construct a 6+/−acre public fishing pond near existing viewing blind by the lake bed and Stewart Marsh | Same as Alternative B.
Wildlife Observation and Photography | Maintain hiking trails and the auto-tour route, observation decks, viewing blinds, and scenic overlooks. The refuge maintains two viewing blinds, one at Stewart Marsh and another overlooking the prairie dog town | Same as Alternative A, plus the installation of six additional blinds, near moist soil units, prairie dog town, and Unit 12 (for deer) | Same as Alternative B.
Environmental Education and Interpretation | The refuge hosts and annual education day for school children from surrounding communities. Refuge staff maintains an environmental education area for education/interpretation programs; both the education area and the staff are available upon request to provide environmental education and interpretation presentations. Maintain interpretation on the auto-tour route and self-guided hiking trails | Same as Alternative A, plus increase the number of education days (as requested) to a maximum of one per month. The refuge would also develop and construct 20 interpretive panels. Expansion of existing auto tour route would open areas of the refuge that are closed to the public due to safety concerns | Same as Alternative B.
Camping | The refuge currently permits primitive camping in a designated 25-site campground that has picnic tables and restroom facilities | Same as Alternative A | Same as Alternative A.
Facilities
Administrative Facilities | Maintain headquarters and Visitors Center | Same as Alternative A, plus develop an Administrative Complex to include headquarters, Visitors Center, biological lab, and maintenance and storage facility | Same as Alternative B, plus increase infrastructure to provide the refuge with sufficient water sources to mimic the amount as historically provided by the natural spring. This would provide the same habitat that was available to wildlife prior to the Ogallala Aquifer receding due to human activity and use.
Public Use Facilities | Limited public use facilities include photo blinds, four parking lots, six vault toilets | Same as Alternative A, plus expand construction and maintenance of two additional hiking trails, one near the Prairie Dog town and the other through grassland prairie habitat near the campground. The refuge would also replace and/or rehabilitate the existing chemical toilet facilities adjacent to the campground with facilities that can remain open year round | Same as Alternative B.
Quality and Safety of Refuge Roadways | Maintain current road infrastructure | Same as Alternative A, plus the rehabilitation of the entrance road from Farm to Market 168 to headquarters with a two lane paved road with adequate shoulders. Resurfacing of the remaining refuge roads with new caliche | Same as Alternative B.

Public Availability of Documents

In addition to using any methods in ADDRESSES, you can view or obtain documents at the following locations:

• Buffalo Lake NWR Headquarters Office, Umbarger, TX 79091, between the hours of 8 a.m. and 4:30 p.m., Monday through Friday.

• Our Web site: http://www.fws.gov/southwest/refuges/Plan/publicinvolvement.html.

• The following public libraries:

Library | Address | Phone No.
Deaf Smith County Library | 211 East 4th Street, Herford, TX 79045 | 806-364-1206
Canyon Public Library | 1501 3rd Avenue, Canyon, TX 79015 | 806-655-5015
Amarillo Southwest Library | 6801 Southwest 45th Ave, Amarillo, TX 79109 | 806-359-2094

Submitting Comments/Issues for Comment

We consider comments substantive if they:

• Question, with reasonable basis, the accuracy of the information in the document;

• Question, with reasonable basis, the adequacy of the environmental assessment (EA);

• Present reasonable alternatives other than those presented in the EA; and/or

• Provide new or additional information relevant to the assessment.

Next Steps

After this comment period ends, we will analyze the comments and address them in the form of a final CCP and finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: September 13, 2012.
Joy E. Nicholopoulos,
Acting Regional Director, Southwest Region.

[FR Doc. 2012-26083 Filed 10-23-12; 8:45 am]

BILLING CODE 4310-55-P